DEPARTMENT OF HEALTH AND HUMAN SERVICES

Centers for Disease Control and Prevention

[30Day-10-09AL]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC 20503 or by fax to (202) 395-5806. Written comments should be received within 30 days of this notice.

Proposed Project

The Green Housing Study: Environmental health impacts on women and children in low-income multifamily housing—New—National Center for Environmental Health (NCEH) and Agency for Toxic Substances and Disease Registry (ATSDR)/Centers for Disease Control and Prevention (CDC).

Background and Brief Description

This study directly supports the Healthy Homes' health protection goal of the Centers for Disease Control and Prevention (CDC). This investigation is also consistent with CDC's Health Protection Research Agenda, which calls for research to identify the major environmental causes of disease and disability and related risk factors.

The efficacy of green building design features in reducing allergens and toxic substances within the home has been assumed based on conventional wisdom. A better understanding is needed of the extent to which green-built, low-income housing actually reduces exposures to these compounds when compared to standard-built, low-income housing. In addition, this study may provide insight into how specific green building practices (e.g., use of low chemical-emitting paints and carpets) may influence levels of substances in the home (such as volatile organic compounds (VOCs). A study investigating these topics would provide a solid foundation upon which to explore green affordable housing's potential to promote healthy homes principles.

The title of this study has changed since publication of the initial 60-day Federal Register Notice (FRN); however, the goals remain the same. These goals will be accomplished in ongoing building renovation programs sponsored by the Department of Housing and Urban Development (HUD). In partnership with HUD, the CDC will leverage opportunities to collect survey and biomarker data from residents and to collect environmental measurements in homes in order to evaluate associations between green housing and health.

Participants will include pregnant women and children living in HUD-subsidized housing that has either been rehabilitated in a green (e.g., case) or a traditional manner (e.g., control) from study sites across the United States. The following are eligible for the study: (1) 688 children (age 7-12 years with asthma); (2) 688 children (less than or equal to 6 years); (3) 688 pregnant women; and (4) 688 mothers of the children enrolled. Pregnant women and children with asthma (ages 7-12 years) will donate blood samples (for assessment of allergy) and urine samples (for assessment of pesticide and VOC exposures). The children with asthma (ages 7-12 years) will be also tested for lung function and lung inflammatory markers. The length of follow-up is one year. Questionnaires regarding home characteristics and respiratory symptoms will be administered at 6-month intervals. Environmental sampling of the air and dust in the participants' homes will be conducted over a 1-year period (once in the home before rehabilitation (baseline I), and then at three time points after rehabilitation has been completed: Baseline II, 6 months, and 12 months). Environmental sampling includes measurements of air exchange rate, pesticides, VOCs, indoor allergens, fungi, temperature, humidity, and particulate matter.

Approximately 1,600 adults (800 mothers and 800 pregnant women) will complete the screening forms. We assume after screening, some women will not be eligible (an estimate of roughly 15%). With an anticipated loss to follow-up in our study of 20%, we will recruit 688 asthmatic children (age 7-12 years) and their mothers. We will also recruit 688 pregnant women. In addition, children age 0-6 years could also be enrolled if a household already has an enrolled participant. In summary, expected overall response rate could range from 69%-86% for each of the eligible types of women participating in the study from screening through the end of data collection. The number and type of respondents that will complete the questionnaires are as follows: (1) 688 mothers of enrolled children—from ages 0-6 yrs and/or children with asthma (ages 7-12 years) and (2) 688 pregnant women—with or without eligible children. All health and environmental exposure information about children will be provided by their mothers (i.e., no children will fill out questionnaires). Children ages 0-6 years are only recruited if their enrolled mother is pregnant or their mother also has an enrolled child with asthma between the ages 7-12 years. The total estimated annual burden hours equals 3,878.

There is no cost to the respondents other than their time to participate in the study.

Estimated Annualized Burden Hours
Forms | Respondents | Number of respondents | Number of responses per respondent | Average burden per response (in hours)
Screening Questionnaire | Mothers of enrolled children/Pregnant Women | 1,600 | 1 | 10/60
Baseline Questionnaire (Home Characteristics) | Mothers of enrolled children/Pregnant Women | 1,376 | 1 | 15/60
Baseline Questionnaire (for Mother or Pregnant Women) | Mothers of enrolled children/Pregnant Women | 1,376 | 1 | 15/60
Baseline Questionnaire (for Children with asthma 7-12 years) | Mothers of enrolled children | 688 | 1 | 15/60
Baseline Questionnaire (for Children 0-6 years) | Mothers of enrolled children | 688 | 1 | 15/60
3- and 9-month Phone contact | Mothers of enrolled children/Pregnant Women | 1,376 | 2 | 5/60
6- and 12-month Follow-up Questionnaire (for environment) | Mothers of enrolled children/Pregnant Women | 1,376 | 2 | 10/60
6- and 12-month Follow-up Questionnaire (for women) | Mothers of enrolled children/Pregnant Women | 1,376 | 2 | 10/60
6- and 12-month Follow-up Questionnaire (for Children with asthma 7-12 years) | Mothers of enrolled children | 688 | 2 | 10/60
6- and 12-month Follow-up Questionnaire (for children 0-6) | Mothers of enrolled children | 688 | 2 | 10/60
Time/Activity form (for Children with asthma 7-12 years) | Mothers of enrolled children | 688 | 4 | 5/60
Time/Activity form (for Children 0-6 years) | Mothers of enrolled children | 688 | 4 | 5/60
Time/Activity form (for Pregnant women or mothers) | Mothers of enrolled children/Pregnant Women | 1,376 | 4 | 5/60
Post-delivery questionnaire | Pregnant Women | 688 | 1 | 5/60

Dated: June 30, 2010.
Maryam I. Daneshvar,
Reports Clearance Officer, Centers for Disease Control and Prevention.

[FR Doc. 2010-16601 Filed 7-7-10; 8:45 am]

BILLING CODE 4163-18-P